DEPARTMENT OF ENERGY

Notice of Request for Information (RFI) on Engaging States To Advance State Energy Office Priorities

AGENCY: Office of Energy Efficiency and Renewable Energy, Department of Energy (DOE).

ACTION: Request for information (RFI).

SUMMARY: The U.S. Department of Energy (DOE) invites public comment on its Request for Information (RFI) number DE-FOA-0002274 regarding Engaging States to Advance State Energy Office Priorities. The U.S Department of Energy's (DOE), Office of Energy Efficiency and Renewable Energy (EERE), State Energy Program (SEP) seeks information from the public on organizations, including industry, academia, nonprofit organizations, and others, that have the expertise and capacity to support state energy offices (SEOs). The desired outcome of this request is to enhance how DOE SEP delivers specific technical assistance and provides direct support to help states maximize the affordability, reliability, and resiliency of their state-led energy policies and programs.

DATES: Responses to the RFI must be received no later than 5:00 p.m. EST on October 15, 2020.

ADDRESSES: Interested parties are to submit comments electronically to State_Energy_OfficeRFI_DOEWIP@ee.doe.gov. Include Engaging States to Advance State Energy Office Priorities in the subject of the title. Only electronic responses will be accepted. The complete RFI document is located at https://eere-exchange.energy.gov/.

FOR FURTHER INFORMATION CONTACT: Questions may be addressed to Greg Dierkers at gregory.dierkers@ee.doe.gov or 202-287-1921. Further instruction can be found in the RFI document posted on EERE Exchange.

SUPPLEMENTARY INFORMATION: The purpose of this RFI is to solicit feedback from industry, academia, nonprofits, consultants, and other organizations that have deep expertise in the energy situation, needs and opportunities in all 56 states and territories and extensive experience working directly with state energy office directors and their senior staff. The State Energy Program is specifically interested in information on such organizations' capacity as well as the ability and experience to provide direct support to all 56 State Energy Offices delegated by their governors with implementation of the State Energy Program. The RFI is available at: https://eere-exchange.energy.gov/.

Confidential Business Information

Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

Signing Authority

This document of the Department of Energy was signed on August 19, 2020, by AnnaMaria Garcia, Director, Weatherization and Intergovernmental Programs Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 10, 2020.
Treena V. Garrett,
Federal Register Liaison Officer, U.S. Department of Energy.

[FR Doc. 2020-20339 Filed 9-14-20; 8:45 am]

BILLING CODE 6450-01-P